DEPARTMENT OF VETERANS AFFAIRS

[OMB Control No. 2900-New]

Agency Information Collection Activities Under OMB Review

AGENCY: Veterans Benefits Administration, Department of Veterans Affairs.

ACTION: Notice.

SUMMARY: In compliance with the Paperwork Reduction Act (PRA) of 1995 (44 U.S.C. 3501—3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before July 7, 2005.

For Further Information or a Copy of the Submission Contact: Denise McLamb, Records Management Service (005E3), Department of Veterans Affairs, 810 Vermont Avenue, NW., Washington, DC 20420, (202) 273-8030, FAX (202) 273-5981 or e-mail: denise.mclamb@mail.va.gov. Please refer to “OMB Control No. 2900-New.”

Send comments and recommendations concerning any aspect of the information collection to VA's OMB Desk Officer, OMB Human Resources and Housing Branch, New Executive Office Building, Room 10235, Washington, DC 20503 (202) 395-7316. Please refer to “OMB Control No. 2900-New” in any correspondence.

SUPPLEMENTARY INFORMATION: Title: Statement of Radiation Exposure during Military Service, VA Form 21-0783.

OMB Control Number: 2900-New.

Type of Review: New collection.

Abstract: VA will use the information collected on VA Form 21-0783 to assist claimants in obtaining supporting documentation to substantiate their claim of radiation exposure during military service and, when applicable, a radiation dose assessment. The information collected will be used to establish claimants' eligibility for disability benefit.

An agency may not conduct or sponsor, and a person is not required to respond to a collection of information unless it displays a currently valid OMB control number. The Federal Register Notice with a 60-day comment period soliciting comments on this collection of information was published on March 2, 2005, at pages 10168-10169.

Affected Public: Individuals or households.

Estimated Annual Burden: 1,680 hours.

Estimated Average Burden Per Respondent: 60 minutes.

Frequency of Response: One time.

Estimated Number of Respondents: 1,680.

Dated: May 26, 2005.
By direction of the Secretary:
Loise Russell,
Director, Records Management Service.

[FR Doc. E5-2902 Filed 6-6-05; 8:45 am]

BILLING CODE 8320-01-P